DEPARTMENT OF HOMELAND SECURITY

Office of the Secretary

Exercise of Authority Under the Immigration and Nationality Act; Correction

AGENCY: Office of the Secretary, DHS.

ACTION: Notice; correction.

SUMMARY: On November 4, 2013, DHS published a notice in the Federal Register, announcing a Secretarial determination under section 212(d)(3)(B)(i) of the Immigration and Nationality Act, 8 U.S.C. 1182(d)(3)(B)(i), as amended. DHS inadvertently omitted three words from that notice. With this document, DHS is making three typographical corrections to that notice: inserting the words “alien,” “in,” and “or.”

FOR FURTHER INFORMATION CONTACT: Nicholas J. Perry, Assistant General Counsel for Immigration Enforcement, (202) 282-9822.

Correction

Correct FR Doc. 2013-26263 as follows:

1. In the Federal Register of November 4, 2013, in FR Doc. 2013-26263, on page 66037, in the first column, correct the sixth through ninth lines to read:

respect to an alien for solicitation of funds or other things of value for; solicitation of any individual for membership in; the provision of material support to; or who

Dated: November 29, 2013.
Christina E. McDonald,
Associate General Counsel for Regulatory Affairs, U.S. Department of Homeland Security.

[FR Doc. 2013-29040 Filed 12-4-13; 8:45 am]

BILLING CODE 9110-9M-P